DEPARTMENT OF HOMELAND SECURITY

Coast Guard

33 CFR Part 165

[Docket Number USCG-2015-0094]

RIN 1625-AA00

Safety Zone, Schuylkill River; Philadelphia, PA

AGENCY: Coast Guard, DHS.

ACTION: Final rule.

SUMMARY: The Coast Guard is establishing a safety zone in the waters of the Schuylkill River around the Deloach dock near Point Breeze at Philadelphia Energy Solutions. The safety zone is necessary when a barge with a beam (width) up to 80 feet moors at the Philadelphia Energy Solutions' Deloach dock, reducing the horizontal clearance of the channel by as much as 30 feet when a barge is moored at the facility. This rule will allow the Coast Guard to restrict all vessel traffic through the safety zone when a barge having a beam of up to 80 feet is scheduled to moor at the facility.

DATES: This rule is effective on October 1, 2015.

ADDRESSES: Documents mentioned in this preamble are part of docket USCG-2013-0874. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email If you have questions on this final rule, call or email Lieutenant Brennan Dougherty, U.S. Coast Guard, Sector Delaware Bay, Chief Waterways Management Division, Coast Guard; telephone (215) 271-4851, email Brennan.P.Dougherty@uscg.mil. If you have questions on viewing or submitting material to the docket, call Cheryl Collins, Program Manager, Docket Operations, telephone (202) 366-9826.

SUPPLEMENTARY INFORMATION:

Table of Acronyms

DHS Department of Homeland Security

FR Federal Register

NPRM Notice of Proposed Rulemaking

A. Regulatory History and Information

On June 24, 2014 the Coast Guard published a Notice of Proposed Rulemaking (NPRM) with a request for comments entitled, “Safety Zone, Schuylkill River; Philadelphia, PA” in the Federal Register (79 FR 35685). No comments were received on the NPRM. No public meeting was requested and none was held.

B. Basis and Purpose

The legal basis for this rule is 33 U.S.C. 1231; 33 CFR 1.05-1, 160.5; Department of Homeland Security Delegation No. 0170.1.

The purpose of this rulemaking is to ensure the safety of waterway users from hazards associated with a 30 foot reduction of horizontal clearance in the channel near Point Breeze when a barge with a beam (width) up to 80 feet is moored at the Deloach dock of Philadelphia Energy Solutions in the Schuylkill River. The remaining horizontal width of the channel in vicinity of Point Breeze is 270 feet.

C. Discussion of Comments, Changes and the Final Rule

The Coast Guard did not receive any comments to the proposed rule. Changes were made to the size of the safety zone described in the notice to proposed rule making. The decision was made to reduce the size of the zone to minimize the effect on waterway users in the area.

The following area is a safety zone: All waters of the Schuylkill River in Philadelphia, PA, inside a boundary described as originating from 39°54′50″ N., 075°12′12″ W.; then West to 39°54′50″ N., 075°12′15″ W.; then Northeast to 39°55′10″ N., 075°12′05″ W.; the East to 39°55′10″ N., 075°12′04″ W.; then back to 39°54′50″ N., 075°12′12″ W.

D. Regulatory Analyses

We developed this rule after considering numerous statutes and executive orders related to rulemaking. Below we summarize our analyses based on a number of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This rule is not a significant regulatory action because it merely reduces the horizontal width of the channel; vessel traffic can still proceed up and down the Schuylkill River.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received 0 comments from the Small Business Administration on this rule. The Coast Guard certifies under 5 U.S.C. 605(b) that this rule will not have a significant economic impact on a substantial number of small entities.

This safety zone will not have a significant economic impact on a substantial number of small entities for the following reasons. The navigable channel is 300 feet wide, providing a remaining 270 feet of horizontal channel clearance for the passage of vessel traffic in the Schuylkill River. Additionally, the only commercial vessel traffic utilizing the waterway upriver of the Passyunk Avenue Bridge is an occasional barge. All anticipated vessel traffic will be able to pass safely around an 80 foot wide barge moored at the Deloach dock at Philadelphia Energy Solutions near Point Breeze. Before the safety zone goes into effect, maritime advisories will be made widely available to users of the Schuylkill River navigable channel.

If you think that your business, organization, or governmental jurisdiction qualifies as a small entity and this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above. The Coast Guard will not retaliate against small entities that question or complain about this rule or any policy or action of the Coast Guard.

4. Collection of Information

This rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this rule under that Order and determined that this rule does not have implications for federalism. The Coast Guard did not receive any comments relating to federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

8. Taking of Private Property

This rule does not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and would not create an environmental risk to health or risk to safety that might disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This rule is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This rule involves implementation of a safety zone when a barge having beam (width) of up to 80 feet is moored at the Deloach dock at Philadelphia Energy Solutions near Point Breeze on the Schuylkill River. This rule is categorically excluded from further review under paragraph 34(g) of Figure 2-1 of the Commandant Instruction. A preliminary environmental analysis checklist supporting this determination and a Categorical Exclusion Determination are available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. Add § 165.784 to read as follows:

§ 165.784 Safety Zone, Schuylkill River; Philadelphia, PA

(a) Location. The following area is a safety zone: All waters of the Schuylkill River in Philadelphia, PA, inside a boundary described as originating from 39°54′50″ N., 075°12′12″ W.; then West to 39°54′50″ N., 075°12′15″ W.; then Northeast to 39°55′10″ N., 075°12′05″ W.; the East to 39°55′10″ N., 075°12′04″ W.; then back to 39°54′50″ N., 075°12′12″ W.

(b) Enforcement period. (1) This regulation is enforced during times when a barge having a beam (width) of up to 80 feet is moored at the Deloach dock of Philadelphia Energy Solutions near Point Breeze.

(2) Prior to commencing enforcement of this regulation, the COTP or designated on-scene patrol personnel will notify the public whenever the regulation is being enforced, to include dates and times. The means of notification may include, but are not limited to, Broadcast Notice to Mariners, Local Notice to Mariners, Marine Safety Information Bulletins, or other appropriate means.

(c) Regulations. (1) All persons are required to comply with the general regulations governing safety zones in 33 CFR 165.23.

(2) All persons and vessels transiting through the Safety Zone must be authorized by the Captain of the Port or his representative.

(3) All persons or vessels wishing to transit through the Safety Zone must request authorization to do so from the Captain of the Port or his representative 30 minutes prior to the intended time of transit.

(4) Vessels granted permission to transit must do so in accordance with the directions provided by the Captain of the Port or his representative to the vessel.

(5) To seek permission to transit the Safety Zone, the Captain of the Port or his representative can be contacted via Sector Delaware Bay Command Center (215) 271-4940.

(6) This section applies to all vessels wishing to transit through the Safety Zone except vessels that are engaged in the following operations:

(i) Enforcing laws;

(ii) Servicing aids to navigation; and

(iii) Emergency response vessels.

(7) No person or vessel may enter or remain in a safety zone without the permission of the Captain of the Port;

(8) Each person and vessel in a safety zone shall obey any direction or order of the Captain of the Port;

(9) No person may board, or take or place any article or thing on board, any vessel in a safety zone without the permission of the Captain of the Port; and

(10) No person may take or place any article or thing upon any waterfront facility in a safety zone without the permission of the Captain of the Port.

(d) Definitions. The Captain of the Port means the Commander of Sector Delaware Bay or any Coast Guard commissioned, warrant, or petty officer who has been authorized by the Captain of the Port to act on his behalf.

(e) Enforcement. The U.S. Coast Guard may be assisted in the patrol and enforcement of the Safety Zone by Federal, State, and local agencies.

Dated: July 31, 2015.
B.A. Cooper,
Captain, U.S. Coast Guard, Captain of the Port Delaware Bay.

[FR Doc. 2015-21687 Filed 8-31-15; 8:45 am]

BILLING CODE 9110-04-P